DEPARTMENT OF COMMERCE

International Trade Administration

[C-475-812]

Grain-Oriented Electrical Steel from Italy; Final Results of Full Sunset Review of Countervailing Duty Order

AGENCY: Import Administration, International Trade Administration, Department of Commerce.

ACTION: Notice of final results of full sunset review: Grain-oriented electrical steel from Italy.

SUMMARY: On June 23, 2000, the Department of Commerce (“the Department”) published in the Federal Register (65 FR 39129) the preliminary results of the full sunset review of the countervailing duty order on grain-oriented electrical steel (“GOES”) from Italy, pursuant to section 751(c) of the Tariff Act of 1930, as amended (“the Act”). We provided interested parties an opportunity to comment on our preliminary results and received comments from domestic and respondent interested parties. As a result of this review, the Department finds that revocation of the countervailing duty orders would be likely to lead to continuation or recurrence of a countervailable subsidy. The net countervailable subsidy and the nature of the subsidy are identified in the Final Results of Review section of this notice.

FOR FURTHER INFORMATION CONTACT: Becky Hagen or James Maeder, Office of Policy for Import Administration, International Trade Administration, U.S. Department of Commerce, 14th and Constitution, NW., Washington, DC 20230; telephone: (202) 482-1277 or (202) 482-3330, respectively.

EFFECTIVE DATE: November 1, 2000.

Statute and Regulations

These reviews were conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in 19 CFR part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Scope of Review

The merchandise subject to this review is Italian GOES, which is a flat-rolled alloy steel product containing by weight at least 0.6 percent of silicon, not more than 0.08 percent of carbon, not more than 1.0 percent of aluminum, and no other element in an amount that would give the steel the characteristics of another alloy steel, of a thickness of no more than 0.56 millimeter, in coils of any width, or in straight lengths which are of a width measuring at least ten times the thickness. The merchandise is currently classifiable in the Harmonized Tariff Schedule (“HTS”) under item numbers 7225.10.0030, 7226.10.1030, 7226.10.5015, and 7226.10.5065. Although HTS subheadings are provided for convenience and customs purposes, our written description of the scope of this proceeding is dispositive.

Background

On June 23, 2000, the Department of Commerce (“the Department”) published in the Federal Register a notice of preliminary results of the full sunset review of the countervailing duty order on GOES from Italy (65 FR 39129) pursuant to section 751(c) of the Tariff Act of 1930, as amended (“the Act”). In our preliminary results, we found that revocation of the order would likely result in continuation or recurrence of a net countervailable subsidy at the rate of 24.46 percent for all Italian GOES producers/exporters.

On July 27, 2000, Acciai Speciali Terni S.p.A. and Acciai Speciali Terni USA, Inc. (together “AST”) requested a hearing in the sunset review. On August 7, 2000, within the deadline specified in 19 CFR 351.309(c)(1)(i), we received a case brief on behalf of AST; on August 14, 2000, we received a rebuttal brief from domestic interested parties. The hearing was held on September 26, 2000.

Analysis of Comments Received

All issues raised in the case and rebuttal briefs by parties to this sunset review are addressed in the “Issues and Decision Memorandum” (“Decision Memo”) from Jeffrey A. May, Director, Office of Policy, Import Administration, to Troy H. Cribb, Acting Assistant Secretary for Import Administration, dated October 26, 2000, which is hereby adopted by this notice. The issues discussed in the attached Decision Memo include the likelihood of continuation or recurrence of countervailable subsidies and the net countervailable subsidy likely to prevail were the order revoked. Parties can find a complete discussion of all issues raised in this review and the corresponding recommendations in this public memorandum which is on file in the Central Records Unit, room B-099, of the main Commerce Building.

In addition, a complete version of the Decision Memo can be accessed directly on the Web at http://ia.ita.doc.gov/frn/, under the heading “Italy.” The paper copy and electronic version of the Decision Memo are identical in content.

Final Results of Review

As a result of this review, the Department finds that revocation of the countervailing duty orders would be likely to lead to continuation or recurrence of a countervailable subsidy at the rates listed below:

Producer/exporter | Margin (percent)
All Italian producers/exporters | 24.2

Nature of the Subsidy

In the Sunset Policy Bulletin (63 FR 18876), the Department states that, consistent with section 752(a)(6) of the Act, the Department will provide to the Commission information concerning the nature of the subsidy, and whether the subsidy is a subsidy described in Article 3 or Article 6.1 of the Subsidies Agreement. Although the programs at issue do not fall within Article 3 of the Subsidies Agreement, some or all of them could be found to be inconsistent with Article 6.1. For example, the net countervailable subsidy may exceed five percent. The Department, however, has no information with which to make such a calculation; nor do we believe it appropriate to attempt such a calculation in the course of a sunset review. Moreover, we note that, as of January 1, 2000, Article 6.1 has ceased to apply (see Article 31 of the Subsidies Agreement). As such, we are providing the Commission with program descriptions in our Decision Memorandum.

This notice serves as the only reminder to parties subject to administrative protective order (“APO”) of their responsibility concerning the disposition of proprietary information disclosed under APO in accordance with 19 CFR 351.305 of the Department's regulations. Timely notification of return/destruction of APO material or conversion to judicial protective order is hereby requested. Failure to comply with the regulations and the terms of an APO is a sanctionable violation.

This five-year (“sunset”) review and notice are in accordance with sections 751(c), 752, and 777(i)(1) of the Act.

Dated: October 26, 2000.
Troy H. Cribb,
Assistant Secretary for Import Administration.

[FR Doc. 00-28043 Filed 10-31-00; 8:45 am]

BILLING CODE 3510-DS-P